DEPARTMENT OF HOMELAND SECURITY

Coast Guard

33 CFR Part 165

[Docket No. USCG-2017-0589]

Safety Zone; Delaware River, Philadelphia, PA

AGENCY: Coast Guard, DHS.

ACTION: Notice of enforcement of regulation.

SUMMARY: The Coast Guard will enforce a safety zone regulation for an annual fireworks event on the Delaware River, Philadelphia, PA from 9:30 p.m. to 11:30 p.m. on June 30, 2017 and July 1, 2017. Enforcement of this safety zone is necessary and intended to ensure safety of life on navigable waters immediately prior to, during, and immediately after these fireworks events. During the enforcement periods, no vessel may transit this regulated area without approval from the Captain of the Port or a designated representative.

DATES: The regulations in 33 CFR 165.506 will be enforced from 9:30 p.m. to 11:30 p.m. on June 30, 2017 and July 1, 2017, for the safety zone listed in the Table to § 165.506, line (a.)(16).

FOR FURTHER INFORMATION CONTACT: If you have questions about this notice of enforcement, you may call or email MST2 Amanda Boone, Sector Delaware Bay Waterways Management Division, U.S. Coast Guard; telephone 215-271-4889, email Amanda.N.Boone@uscg.mil.

SUPPLEMENTARY INFORMATION: From 9:30 p.m. to 11:30 p.m. on June 30, 2017 and July 1, 2017, the Coast Guard will enforce the safety zone regulation listed in the Table to 33 CFR 165.506 (a.)(16) that takes place on the Delaware River, Philadelphia, PA. This action is being taken to enhance the safety of life on navigable waterways during the fireworks display.

Coast Guard regulations for recurring firework events in Captain of the Port Delaware Bay Zone, are published in § 165.506, Safety Zones; Fireworks Displays within the Fifth Coast Guard District, which specifies the location of the regulated area for this safety zone as all waters of Delaware River, adjacent to Penns Landing, Philadelphia, PA, bounded from shoreline to shoreline, bounded on the south by a line running east to west from points along the shoreline at latitude 39°56′31.2″ N., longitude 075°08′28.1″ W.; thence west to latitude 39°56′29.1″ N., longitude 075°07′56.5″ W., and bounded on the north where the Benjamin Franklin Bridge crosses the Delaware River.

As specified in § 165.506, during the enforcement period, no vessel or person may enter, transit through, anchor in, or remain within the regulated area unless authorized by the Captain of the Port Delaware Bay or a designated representative. If permission is granted, all persons and vessels shall comply with the instructions of the COTP, designated representative or Patrol Commander.

This notice of enforcement is issued under authority of 33 CFR 165.506 and 33 U.S.C. 1233. The Coast Guard will provide the maritime community with advanced notice of enforcement of regulation by Broadcast Notice to Mariners (BNM), Local Notice to Mariners and on-scene actual notice by designated representative. In the event Captain of the Port Delaware Bay determines that it's not necessary to enforce the regulated area for the entire duration of the enforcement period, a BNM will be issued to authorize general permission to enter the regulated area.

Dated: Jun 27, 2017.
Scott E. Anderson,
Captain, U.S. Coast Guard, Captain of the Port Delaware Bay.

[FR Doc. 2017-13917 Filed 6-29-17; 8:45 am]

BILLING CODE 9110-04-P